DEPARTMENT OF COMMERCE

International Trade Administration

[A-583-849, A-552-812]

Steel Wire Garment Hangers From Taiwan and the Socialist Republic of Vietnam: Final Results of the Expedited Second Sunset Review of the Antidumping Duty Orders

AGENCY: Enforcement and Compliance, International Trade Administration, Department of Commerce.

SUMMARY: The U.S. Department of Commerce (Commerce) finds that revocation of the antidumping duty (AD) orders on steel wire garment hangers (hangers) from Taiwan and the Socialist Republic of Vietnam (Vietnam) would be likely to lead to continuation or recurrence of dumping at the levels indicated in the “Final Results of Sunset Review” section of this notice.

DATES: Applicable August 7, 2023.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On December 10, 2012, and February 5, 2013, Commerce published the AD orders on hangers from Taiwan and Vietnam, respectively.¹ On April 3, 2023, Commerce published the notice of initiation of the five-year sunset review of the Orders, pursuant to section 751(c) of the Tariff Act of 1930, as amended (the Act).² On April 11, 2023, Commerce received a notice of intent to participate in this review from M&B Metal Products Company, Inc. (domestic interested party) within the deadline specified in 19 CFR 351.218(d)(1)(i).³ The domestic interested party claimed interested party status under section 771(9)(C) of the Act as a manufacturer of a domestic like product in the United States. On April 13, 2023, the domestic interested party provided a complete substantive response for this review within the 30-day deadline specified in 19 CFR 351.218(d)(3)(i).⁴ We received no substantive responses from any other interested parties, nor was a hearing requested. On April 24, 2023, Commerce notified the U.S. International Trade Commission (ITC) that it did not receive an adequate substantive response from respondent interested parties.⁵ As a result, pursuant to section 751(c)(3)(B) of the Act and 19 CFR 351.218(e)(1)(ii)(C)(2), Commerce conducted an expedited (120-day) sunset review of the Orders.

¹ See Steel Wire Garment Hangers from Taiwan: Antidumping Duty Order, 77 FR 73424 (December 10, 2012); and Steel Wire Garment Hangers from the Socialist Republic of Vietnam: Antidumping Duty Order, 78 FR 8105 (February 5, 2013) (collectively, Orders).

² See Initiation of Five-Year (Sunset) Reviews, 88 FR 19616 (April 3, 2023).

³ See Domestic Interested Party's Letter, “Notice of Intent to Participate,” dated April 11, 2023.

⁴ See Domestic Interested Party's Letter, “Five-Year (Sunset) Review of Steel Wire Garment Hangers from Taiwan-Substantive Response of Domestic Producer to Notice of Initiation,” dated April 13, 2023; see also Domestic Interested Party's Letter, “Five-Year (Sunset) Review of Steel Wire Garment Hangers from Vietnam (AD)-Substantive Response of Domestic Producer to Notice of Initiation,” dated April 13, 2023.

⁵ See Commerce's Letter, “Sunset Reviews Initiated on April 3, 2023,” dated April 24, 2023.

Scope of the Orders

The merchandise subject to the Orders are steel wire garment hangers, fabricated from carbon steel wire, whether or not galvanized or painted, whether or not coated with latex or epoxy or similar gripping materials, and whether or not fashioned with paper covers or capes (with or without printing) or nonslip features such as saddles or tubes. These products may also be referred to by a commercial designation, such as shirt, suit, strut, caped, or latex (industrial) hangers. The products subject to the Orders are currently classified under U.S. Harmonized Tariff Schedule (HTSUS) subheadings 7326.20.0020 and 7323.99.9080. Although the HTSUS subheadings are provided for convenience and customs purposes, the written description of the merchandise is dispositive. A full description of the scope of the Orders is contained in the Issues and Decision Memorandum.⁶

⁶ See Memorandum, “Issues and Decisions Memorandum for the Final Results of the Expedited Second Sunset Review of the Antidumping Duty Order on Steel Wire Garment Hangers from Taiwan and the Socialist Republic of Vietnam,” dated concurrently with, and hereby adopted by, this notice (Issues and Decisions Memorandum).

Analysis of Comments Received

All issues raised in this review, including the likelihood of continuation or recurrence of dumping in the event of revocation of the Order and the magnitude of the margins likely to prevail if the Order were revoked, are addressed in the Issues and Decision Memorandum.⁷ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁷ Id.

Final Results of Sunset Review

Pursuant to sections 751(c) and 752(c) of the Act, Commerce determines that revocation of the Orders would be likely to lead to continuation or recurrence of dumping, and that the magnitude of the dumping margins likely to prevail would be up to 125.43 percent for Taiwan and up to 220.63 percent for Vietnam.

Administrative Protective Order

This notice serves as the only reminder to interested parties subject to an administrative protective order (APO) of their responsibility concerning the return or destruction of proprietary information disclosed under APO in accordance with 19 CFR 351.305. Timely written notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.218.

Dated: August 1, 2023.
Lisa W. Wang,
Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Review

VIII. Recommendation

[FR Doc. 2023-16819 Filed 8-4-23; 8:45 am]

BILLING CODE 3510-DS-P